ENVIRONMENTAL PROTECTION AGENCY

[LA-68-1-7599; FRL-7506-3]

Adequacy Status of Submitted State Implementation Plans (SIP) for Transportation Conformity Purposes: MOBILE6 Motor Vehicle Emissions Budgets for the Baton Rouge 1-Hour Ozone Nonattainment Area

AGENCY: Environmental Protection Agency (EPA).

ACTION: Notice of adequacy.

SUMMARY: In this notice, EPA is notifying the public that we have found the on-road motor vehicle emissions budget contained in the revision to the Baton Rouge serious ozone nonattainment area attainment demonstration SIP adequate for transportation conformity purposes. As a result of our finding, the budgets from the submitted attainment demonstration SIP revision must be used for future conformity determinations in the Baton Rouge area.

DATES: These budgets are effective June 17, 2003.

FOR FURTHER INFORMATION CONTACT: The essential information in this notice will be available at EPA's conformity Web site: http://www.epa.gov/oms/transp/conform/adequacy.htm. You may also contact Ms. Peggy Wade, Air Planning Section (6PD-L), U.S. EPA Region 6, 1445 Ross Avenue, Dallas, Texas 75202-2733, telephone (214) 665-7247, Email address: Wade.Peggy@epa.gov.

SUPPLEMENTARY INFORMATION: Throughout this document “we,” “us,” and “our” refers to EPA. The word “budget(s)” refers to the mobile source emissions budget for volatile organic compounds (VOCs) and the mobile source emissions budget for nitrogen oxides (NOX). The word “SIP” in this document refers to the State Implementation Plan revision submitted to satisfy the commitment of the State of Louisiana to revise its mobile source budgets for the Baton Rouge ozone nonattainment area with MOBILE6. (MOBILE6 is the most recent emissions factor model, released by EPA on January 29, 2001.)

On January 21, 2003, we received the MOBILE6 SIP revision for the Baton Rouge 5-Parish ozone nonattainment area. There are two motor vehicle emissions budgets found in this plan for 2005. The emissions budget for VOCs is 18.82 tons/day; the NOX emissions budget is 30.00 tons/day. On January 31, 2003, the availability of these budgets was posted on EPA's Web site for the purpose of soliciting public comments. The comment period closed on March 3, 2003, and we received no comments.

Today's notice is simply an announcement of a finding that we have already made. EPA Region 6 delivered a letter to the Louisiana Department of Environmental Quality on March 27, 2003, finding that the motor vehicle emissions budgets in the Baton Rouge 5-Parish ozone nonattainment area are adequate and must be used for transportation conformity determinations.

Transportation conformity is required by section 176(c) of the Clean Air Act. EPA's conformity rule, 40 CFR part 93, requires that transportation plans, programs and projects conform to SIPs and establishes the criteria and procedures for determining whether or not they do so. Conformity to a SIP means that transportation activities will not produce new air quality violations, worsen existing violations, or delay timely attainment of the National Ambient Air Quality Standards. The criteria by which EPA determines whether a SIP's motor vehicle emission budgets are adequate for conformity purposes are outlined in 40 CFR 93.118(e)(4). Please note that such an adequacy review is separate from EPA's completeness review, and it should not be used to prejudge EPA's ultimate approval of the SIP. Even if we find a budget adequate, the SIP could later be disapproved.

On March 2, 1999, the DC Circuit Court of Appeals ruled that budgets contained in submitted SIPS cannot be used for conformity determinations unless EPA has affirmatively found the conformity budget adequate. We have described our process for determining the adequacy of submitted SIP budgets in the policy guidance dated May 14, 1999, and titled Conformity Guidance on Implementation of March 2, 1999, Conformity Court Decision. We followed this guidance in making our adequacy determination. You may obtain a copy of this guidance from EPA's conformity website or by contacting us at the address above.

Authority: 42 U.S.C. 7401 et seq.

Dated: May 16, 2003.
Lawrence E. Starfield,
Deputy Regional Administrator, Region 6.

[FR Doc. 03-13718 Filed 5-30-03; 8:45 am]

BILLING CODE 6560-50-P